DEPARTMENT OF ENERGY

Federal Energy Regulatory Commission

Combined Notice of Filings #

Take notice that the Commission has received the following Natural Gas Pipeline Rate and Refund Report filings:

Filings Instituting Proceedings

Docket Numbers: PR23-4-000.

Applicants: Hope Gas, Inc.

Description: § 284.123(g) Rate Filing: HGI—2022 PREP Filing to be effective 11/1/2022.

Filed Date: 11/2/22.

Accession Number: 20221102-5055.

Comment Date: 5 p.m. ET 11/23/22.

Docket Numbers: RP23-142-000.

Applicants: Algonquin Gas Transmission, LLC.

Description: § 4(d) Rate Filing: Negotiated Rates—Keyspan Nat 510369 Releases 11-1-2022 to be effective 11/1/2022.

Filed Date: 11/1/22.

Accession Number: 20221101-5106.

Comment Date: 5 p.m. ET 11/14/22.

Docket Numbers: RP23-143-000.

Applicants: Algonquin Gas Transmission, LLC.

Description: § 4(d) Rate Filing: Negotiated Rates—Bug Co Nat 809476 Releases eff 11-1-22 to be effective 11/1/2022.

Filed Date: 11/1/22.

Accession Number: 20221101-5110.

Comment Date: 5 p.m. ET 11/14/22.

Docket Numbers: RP23-144-000.

Applicants: Texas Gas Transmission, LLC.

Description: § 4(d) Rate Filing: Cap Rel Neg Rate Agmt (Kaiser OH 35448 to Kaiser Appalachian 53919) to be effective 11/1/2022.

Filed Date: 11/1/22.

Accession Number: 20221101-5111.

Comment Date: 5 p.m. ET 11/14/22.

Docket Numbers: RP23-145-000.

Applicants: Texas Gas Transmission, LLC.

Description: § 4(d) Rate Filing: Cap Rel Neg Rate Agmt (JayBee 34446 to Macquarie 53942) to be effective 11/1/2022.

Filed Date: 11/1/22.

Accession Number: 20221101-5112.

Comment Date: 5 p.m. ET 11/14/22.

Docket Numbers: RP23-146-000.

Applicants: Algonquin Gas Transmission, LLC.

Description: § 4(d) Rate Filing: Negotiated Rates—Various Releases eff 11-1-2022 to be effective 11/1/2022.

Filed Date: 11/1/22.

Accession Number: 20221101-5113.

Comment Date: 5 p.m. ET 11/14/22.

Docket Numbers: RP23-147-000.

Applicants: Gulf South Pipeline Company, LLC.

Description: § 4(d) Rate Filing: Cap Rel Neg Rate Agmts (Osaka 46429 to Texla 55742, Spotlight 55741) to be effective 11/1/2022.

Filed Date: 11/1/22.

Accession Number: 20221101-5117.

Comment Date: 5 p.m. ET 11/14/22.

Docket Numbers: RP23-148-000.

Applicants: Columbia Gas Transmission, LLC.

Description: § 4(d) Rate Filing: PAL Negotiated Rate Agreements to be effective 11/1/2022.

Filed Date: 11/1/22.

Accession Number: 20221101-5119.

Comment Date: 5 p.m. ET 11/14/22.

Docket Numbers: RP23-149-000.

Applicants: Equitrans, L.P.

Description: § 4(d) Rate Filing: Negotiated Rate Capacity Release Agreements—11/1/2022 to be effective 11/1/2022.

Filed Date: 11/1/22.

Accession Number: 20221101-5126.

Comment Date: 5 p.m. ET 11/14/22.

Docket Numbers: RP23-150-000.

Applicants: Columbia Gas Transmission, LLC.

Description: § 4(d) Rate Filing: Negotiated Rate Amendment—Antero 176700-14 & COH 241816-1 to be effective 11/1/2022.

Filed Date: 11/1/22.

Accession Number: 20221101-5143.

Comment Date: 5 p.m. ET 11/14/22.

Docket Numbers: RP23-151-000.

Applicants: WBI Energy Transmission, Inc.

Description: § 4(d) Rate Filing: 2022 Negotiated and Non-Conforming SA ONEOK FT-1804 to be effective 12/2/2022.

Filed Date: 11/1/22.

Accession Number: 20221101-5150.

Comment Date: 5 p.m. ET 11/14/22.

Docket Numbers: RP23-152-000.

Applicants: Equitrans, L.P.

Description: § 4(d) Rate Filing: Negotiated Rate Agreements—11/1/2022 to be effective 11/1/2022.

Filed Date: 11/1/22.

Accession Number: 20221101-5157.

Comment Date: 5 p.m. ET 11/14/22.

Docket Numbers: RP23-153-000.

Applicants: Texas Eastern Transmission, LP.

Description: § 4(d) Rate Filing: Non-conforming Agrmnt—JPMorgan K911866 to be effective 11/1/2022.

Filed Date: 11/1/22.

Accession Number: 20221101-5165.

Comment Date: 5 p.m. ET 11/14/22.

Docket Numbers: RP23-154-000.

Applicants: ANR Storage Company.

Description: § 4(d) Rate Filing: TC eConnects Conversion and Housekeeping to be effective 12/1/2022.

Filed Date: 11/1/22.

Accession Number: 20221101-5167.

Comment Date: 5 p.m. ET 11/14/22.

Docket Numbers: RP23-155-000.

Applicants: Gulf South Pipeline Company, LLC.

Description: § 4(d) Rate Filing: 2022 Fuel Tracker Filing to be effective 4/1/2023.

Filed Date: 11/1/22.

Accession Number: 20221101-5169.

Comment Date: 5 p.m. ET 11/14/22.

Docket Numbers: RP23-156-000.

Applicants: Guardian Pipeline, L.L.C.

Description: § 4(d) Rate Filing: Tariff Part 5.0 Effective Priority Correction to be effective 11/1/2022.

Filed Date: 11/1/22.

Accession Number: 20221101-5177.

Comment Date: 5 p.m. ET 11/8/22.

Docket Numbers: RP23-157-000.

Applicants: Blue Lake Gas Storage Company.

Description: § 4(d) Rate Filing: TC eConnects Conversion and Housekeeping to be effective 12/1/2022.

Filed Date: 11/1/22.

Accession Number: 20221101-5188.

Comment Date: 5 p.m. ET 11/14/22.

Docket Numbers: RP23-158-000.

Applicants: Columbia Gas Transmission, LLC.

Description: § 4(d) Rate Filing: Capacity Release Agreements—Gunvor and Direct Energy to be effective 11/1/2022.

Filed Date: 11/1/22.

Accession Number: 20221101-5197.

Comment Date: 5 p.m. ET 11/14/22.

Docket Numbers: RP23-159-000.

Applicants: ANR Pipeline Company.

Description: § 4(d) Rate Filing: ANR November 1 Neg. Rate Agreements to be effective 11/1/2022.

Filed Date: 11/1/22.

Accession Number: 20221101-5221.

Comment Date: 5 p.m. ET 11/14/22.

Docket Numbers: RP23-160-000.

Applicants: Stagecoach Pipeline & Storage Company LLC.

Description: § 4(d) Rate Filing: Stagecoach Pipeline & Storage Company LLC—Equinor, Chesapeake & EQT Energy to be effective 12/1/2022.

Filed Date: 11/2/22.

Accession Number: 20221102-5042.

Comment Date: 5 p.m. ET 11/14/22.

Docket Numbers: RP23-162-000.

Applicants: Fayetteville Express Pipeline LLC.

Description: § 4(d) Rate Filing: Assignment of Non-Conforming Agreement (XTO to Van Buren) to be effective 11/2/2022.

Filed Date: 11/2/22.

Accession Number: 20221102-5059.

Comment Date: 5 p.m. ET 11/14/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP23-16-000.

Applicants: LA Storage, LLC.

Description: Report Filing: LA Storage, LLC Tariff Filing Revising Effective Date to be effective N/A.

Filed Date: 11/2/22.

Accession Number: 20221102-5015.

Comment Date: 5 p.m. ET 11/14/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 2, 2022.
Debbie-Anne A. Reese,
Deputy Secretary.

[FR Doc. 2022-24333 Filed 11-7-22; 8:45 am]

BILLING CODE 6717-01-P